Proclamation 7953 of November 2, 2005

National Diabetes Month, 2005

By the President of the United States of America

A Proclamation

Americans of all ages and backgrounds live with diabetes. Nearly 21 million of our citizens have this disease, and researchers estimate that more than 6 million of these individuals have not been diagnosed and are unaware they have it. National Diabetes Month is an opportunity to educate citizens about diabetes and what they can do to help prevent and treat this disease.

Type 1 diabetes, once known as juvenile diabetes, destroys insulin-producing cells and usually strikes children and teenagers. Nearly 95 percent of all diabetics suffer from type 2 diabetes, a condition in which the body fails to produce or to use insulin properly. Type 2 diabetes typically occurs in inactive or obese adults or individuals with a family history of the disease and now increasingly appears in inactive or overweight children. Because of a lack of insulin, diabetics face potential blindness, nontraumatic amputations, kidney disease, and increased risk of heart disease and stroke.

Studies have shown that minor weight loss and daily exercise can help prevent and reduce the effects of diabetes. I encourage all Americans to follow the new dietary guidelines released by the Department of Health and Human Services earlier this year that emphasize the importance of nutritious foods and regular physical activity. In addition to taking steps toward a healthier lifestyle, Americans should consult their doctors for preventive screenings to detect diabetes in its earliest stages. Under the Medicare Prescription Drug, Improvement, and Modernization Act of 2003, these screenings are now covered for Medicare beneficiaries. These simple tests can save lives and help prevent this potentially life-threatening illness.

My Administration remains committed to fighting diabetes through research and prevention, and we will continue to support the National Institutes of Health (NIH) and others in their efforts to combat this disease. This year, the NIH dedicated more than $1 billion to diabetes research. The Centers for Disease Control and Prevention (CDC) and the NIH are also sponsoring the National Diabetes Education Program, which has helped to inform more than 180 million Americans in the last 3 years about healthy choices and the risk factors of diabetes.

During National Diabetes Month and throughout the year, we pay tribute to the doctors, nurses, scientists, researchers, and all those dedicated to the fight against diabetes. I urge the millions of Americans living with this disease and all citizens to lead healthy lives and to motivate others to do the same. By working together to prevent this disease, we can improve the quality of life for more Americans.

NOW, THEREFORE, I, GEORGE W. BUSH, President of the United States of America, by virtue of the authority vested in me by the Constitution and laws of the United States, do hereby proclaim November 2005 as National Diabetes Month. I call upon all Americans to learn more about the risk factors and symptoms associated with diabetes and to observe this month with appropriate programs and activities.

IN WITNESS WHEREOF, I have hereunto set my hand this second day of November, in the year of our Lord two thousand five, and of the Independence of the United States of America the two hundred and thirtieth.

B

[FR Doc. 05-22202

Filed 11-3-05; 10:58 am]

Billing code 3195-01-P